SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: December 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR part 806, subpart E, for the time period specified above:

1. Barney & Dickenson, Inc., GF Certificate No. GF-202212232, Town of Vestal, Broome County, N.Y.; Main Storage Pond and combined withdrawal from Wells 1, 2, and 3; Issue Date: December 15, 2022.

2. City of Norwich—Public Water Supply System, GF Certificate No. GF-202212233, Towns of Norwich and New Berlin and City of Norwich, Chenango County, N.Y.; combined withdrawal from Wells 1 and 2, Well 3, and the Lower Reservoir; Issue Date: December 15, 2022.

3. Hardinge Inc., GF Certificate No. GF-202212234, Town of Horseheads, Chemung County, N.Y.; Wells 1, 2, and 3; Issue Date: December 15, 2022.

4. Hidden Valley Golf Course, Inc., GF Certificate No. GF-202212235, Wayne Township, Schuylkill County, Pa., Artesian Well, the Other On-site Well, and the Chateau (Upper) Pond; Issue Date: December 15, 2022.

5. Knight Settlement Sand & Gravel, LLC, GF Certificate No. GF-202212236, Town of Bath, Steuben County, N.Y.; Cohocton River and the Concrete Well; Issue Date: December 15, 2022.

6. The Pennsylvania State University—Public Water Supply System and University Campus Use, GF Certificate No. GF-202212237, College and Patton Townships and State College Borough, Centre County, Pa.; see Addendum; Issue Date: December 15, 2022.

7. Tower City Borough Authority—Public Water Supply System, GF Certificate No. GF-202212238, Porter Township, Schuylkill County, Pa.; Wells 1 and 3; Issue Date: December 15, 2022.

Authority: Public Law 91-575, 84 Stat. 1509 et seq., 18 CFR parts 806 and 808.

Dated: January 6, 2023.
Jason E. Oyler,
General Counsel and Secretary to the Commission.

[FR Doc. 2023-00374 Filed 1-10-23; 8:45 am]

BILLING CODE 7040-01-P